DEPARTMENT OF HEALTH AND HUMAN SERVICES

Announcement of Establishment of the Secretary's Advisory Committee on National Health Promotion and Disease Prevention Objectives for 2030 and Solicitation of Nominations for Membership; Correction

AGENCY: Office of Disease Prevention and Health Promotion, Office of the Assistant Secretary for Health, Office of the Secretary, U.S. Department of Health and Human Services.

ACTION: Notice; correction.

SUMMARY: The U.S. Department of Health and Human Services published a notice in the Federal Register, dated March 17, 2016, to announce the establishment of the Secretary's Advisory Committee on National Health Promotion and Disease Prevention Objectives for 2030 (Committee) and invites nominations for membership. This notice contained incorrect information.

FOR FURTHER INFORMATION CONTACT: Emmeline Ochiai, email address: HP2030@hhs.gov.

Correction

In the Federal Register, dated March 17, 2016, on page 14455, correct the Title to read:

Announcement of Intent to Establish the Secretary's Advisory Committee on National Health Promotion and Disease Prevention Objectives for 2030 and Solicitation of Nominations for Membership

and correct the Summary to read:

SUMMARY: The U.S. Department of Health and Human Services (HHS) announces its intent to establish the Secretary's Advisory Committee on National Health Promotion and Disease Prevention Objectives for 2030 (Committee) and invites nominations for membership.

Dated: April 5, 2016.
Donald Wright,
Deputy Assistant Secretary for Health, (Disease Prevention and Health Promotion).

[FR Doc. 2016-08284 Filed 4-11-16; 8:45 am]

BILLING CODE 4150-32-P